DEPARTMENT OF TRANSPORTATION

Federal Aviation Administration

14 CFR Part 97

[Docket No. 30275; Amdt. No. 2075]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format mate their verbatim publication in the Federal Register expensive and impractical. Further, airmen do not use the regulatory text of this SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC, on October 12, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; AND § 97.35 COPTER SIAPs, Identified as follows:

* * * Effective Upon Publication

FDC date | State | City | Airport | FDC NO. | Subject
09/26/01 | WA | SEATTLE | SEATTLE-TACOMA INTL | 1/0489 | ILS RWY 34L, ORIG...
09/26/01 | WA | SEATTLE | SEATTLE-TACOMA INTL | 1/0490 | ILS RWY 34R, ORIG...
09/26/01 | PA | PITTSBURGH | PITTSBURGH INTL | 1/0493 | CONVERGING ILS RWY 28R, AMDT 2
09/26/01 | PA | PITTSBURGH | PITTSBURGH INTL | 1/0495 | CONVERGING ILS RWY 32, AMDT 3A...
09/27/01 | WA | SEATTLE | SEATTLE-TACOMA INTL | 1/0553 | RNAV (GPS) RWY 34L, ORIG...
09/28/01 | FL | ST. PETERSBURG-CLEARWATER | ST. PETERSBURG-CLEARWATER INTL | 1/0584 | VOR RWY 4, ORIG...
10/01/01 | OK | HOBART | HOBART MUNI | 1/0739 | GPS RWY 17, ORIG-A...
10/01/01 | OK | HOBART | HOBART MUNI | 1/0743 | GPS RWY 35, ORIG-A...
10/01/01 | OK | HOBART | HOBART MUNI | 1/0753 | VOR RWY 35, AMDT 8A...
10/02/01 | WA | TACOMA | TACOMA NARROWS | 1/0776 | NDB RWY 35, AMDT 7...
10/02/01 | FL | SARASOTA/BRADENTON | SARASOTA/BRADENTON INTL | 1/0786 | ILS RWY 32, AMDT 4B...
10/02/01 | FL | SARASOTA/BRADENTON | SARASOTA/BRADENTON INTL | 1/0787 | ILS RWY 14, AMDT 3A...
10/03/01 | CT | BRIDGEPORT | IGOR I SIKORSKY MEMORIAL | 1/0855 | ILS RWY 6, AMDT 9...
10/03/01 | NH | KEENE | DILLANT-HOPKINS | 1/0864 | VOR RWY 2, AMDT 12...
10/03/01 | NH | KEENE | DILLANT-HOPKINS | 1/0866 | ILS RWY 2, AMDT 2A...
10/03/01 | AZ | PHOENIX | PHOENIX SKY HARBOR INTL | 1/0869 | ILW RWY 26, ORIG...
10/04/01 | PA | PHILADELPHIA | PHILADELPHIA INTL | 1/0887 | ILS RWY 26, AMDT 2...
10/04/01 | PA | PHILADELPHIA | PHILADELPHIA INTL | 1/0888 | ILS PRM RWY 27L, AMDT 1...
10/04/01 | PA | PHILADELPHIA | PHILADELPHIA INTL | 1/0889 | ILS PRM RWY 26, AMDT 1...
10/04/01 | IA | DUBUQUE | DUBUQUE REGIONAL | 1/0895 | LOC/DME BC RWY 13, AMDT 5A...
10/04/01 | IA | DUBUQUE | DUBUQUE REGIONAL | 1/0896 | VOR OR GPS RWY 13, AMDT 9...
10/04/01 | IA | DUBUQUE | DUBUQUE REGIONAL | 1/0897 | VOR RWY 31, AMDT 11C...
10/04/01 | IA | DUBUQUE | DUBUQUE REGIONAL | 1/0898 | NDB OR GPS RWY 31, AMDT 8C...
10/04/01 | IA | DUBUQUE | DUBUQUE REGIONAL | 1/0899 | LOC RWY 31, ORIG...
10/04/01 | IA | DUBUQUE | DUBUQUE REGIONAL | 1/0900 | ILS RWY 36, ORIG...
10/04/01 | TX | DALLAS-FORT WORTH | DALLAS-FORT WORTH INTL | 1/0906 | CONVERGING ILS RWY 17R, AMDT 6A...
10/04/01 | TX | DALLAS-FORT WORTH | DALLAS-FORT WORTH INTL | 1/0908 | CONVERGING ILS RWY 35L, AMDT 1D...
10/04/01 | TX | DALLAS-FORT WORTH | DALLAS-FORT WORTH INTL | 1/0909 | ILS RWY 17R, AMDT 20A...
10/04/01 | TX | DALLAS-FORT WORTH | DALLAS-FORT WORTH INTL | 1/0910 | ILS RWY 35L, AMDT 2C...
10/04/01 | TX | FORT WORTH | FORT WORTH ALLIANCE | 1/0914 | ILS RWY 34R, AMDT 4A...
10/04/01 | TX | FORT WORTH | FORT WORTH ALLIANCE | 1/0915 | ILS RWY 16L (CAT I, II, III) AMDT 5A...
10/04/01 | IL | VANDALIA | VANDALIA MUNI | 1/0938 | VOR RWY 18, AMDT 11...
10/04/01 | ME | BANGOR | BANGOR INTL | 1/0968 | ILS RWY 33, AMDT 10A...
10/04/01 | GA | ATLANTA | FULTON COUNTY AIRPORT-BROWN FIELD | 1/0969 | NDB OR GPS RWY 8, AMDT 2A...
10/04/01 | GA | ATLANTA | FULTON COUNTY AIRPORT-BROWN FIELD | 1/0970 | ILS RWY 8, AMDT 15F...
10/08/01 | MN | GRANITE FALLS | GRANITE FALLS MUNI/LENZEN-ROE MEMORIAL FLD | 1/1008 | GPS RWY 34, ORIG...
10/08/01 | MN | GRANITE FALLS | GRANITE FALLS MUNI/LENZEN-ROE MEMORIAL FLD | 1/1009 | VOR/DME RWY 34, ORIG...
10/09/01 | UT | HEBER CITY | HEBER CITY MUNI-RUSS MCDONALD FIELD | 1/1092 | RNAV (GPS)-A, ORIG...
10/09/01 | MI | HANCOCK | HOUGHTON COUNTY MEMORIAL | 1/1095 | ILS RWY 31, AMDT 13...
10/09/01 | MI | HANCOCK | HOUGHTON COUNTY MEMORIAL | 1/1096 | NDB OR GPS RWY 31, AMDT 11A...
10/09/01 | IA | DUBUQUE | DUBUQUE REGIONAL | 1/1118 | VOR OR GPS RWY 36, AMDT 5C...

[FR Doc. 01-26459 Filed 10-18-01; 8:45 am]

BILLING CODE 4910-13-M